FEDERAL MARITIME COMMISSION

Notice of Agreement Filed—Correction

The Commission hereby gives notice of a correction in the Title of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 201118-002.

Title: Lease and Operating Agreement between Philadelphia Regional Port Authority and Penn Warehousing & Distribution, Inc.

Parties: Philadelphia Regional Port Authority and Penn Warehousing and Distribution, Inc.

Filing Party: Paul D. Coleman, Esq.; Hoppel, Mayer & Coleman; 1050 Connecticut Ave., NW., 10th Floor; Washington, DC 20036.

Synopsis: The amendment defines the lease year, clarifies the dockage fee, allows a credit to the Lessee if dockage fees collected reach a certain level, and makes other miscellaneous changes.

By Order of the Federal Maritime Commission.
Dated: February 3, 2010.
Karen V. Gregory,
Secretary.

[FR Doc. 2010-2705 Filed 2-5-10; 8:45 am]

BILLING CODE 6730-01-P